DEPARTMENT OF AGRICULTURE

Forest Service

Humboldt-Toiyabe National Forest; Nevada and California Greater Sage Grouse Bi-State Distinct Population Segment Forest Plan Amendment Environmental Impact Statement (EIS)

AGENCY: Forest Service, USDA.

ACTION: Notice of intent to prepare an Environmental Impact Statement.

SUMMARY: In compliance with the National Environmental Policy Act of 1969, as amended (NEPA), the Federal Land Policy and Management Act of 1976, as amended (FLPMA), and the Resources Planning Act of 1974, as amended by the National Forest Management Act 1976 (NFMA), the Forest Service (FS) intends to prepare an Environmental Impact Statement (EIS) to amend the Toiyabe National Forest Land and Resource Management Plan and the Carson City and Battle Mountain Resource Management Plans. This notice is announcing the beginning of the scoping process to solicit public comments and identify issues. The FS is the lead agency on the EIS. The Bureau of Land Management (BLM) is participating as a cooperating agency to insure the NEPA can be used to adequately cover their RMP amendment. This analysis will be the basis of three records of decision.

The development of this EIS will be coordinated across management units of the Humboldt-Toiyabe National Forest, BLM Carson City District, and BLM Battle Mountain District and include areas in western Nevada and eastern California.

These management units include the Bridgeport Ranger District and Carson Ranger Districts of the Humboldt-Toiyabe National Forest, BLM Carson City and Battle Mountain Districts. These management units include areas identified as habitat for the Greater Sage Grouse Bi-State Distinct Population Segment.

DATES: Comments concerning the scope of the analysis must be received by January 30, 2013. The EIS is expected June, 2013 and the final EIS is expected September, 2013.

ADDRESSES: Send written comments to: James Winfrey, Humboldt-Toiyabe National Forest 1200 Franklin Way, Sparks, NV 89523.

FOR FURTHER INFORMATION CONTACT: For further information and/or to have your name added to our mailing list, contact James Winfrey, Humboldt-Toiyabe National Forest, Project Manager, telephone (775) 355-5300; address 1200 Franklin Way, Sparks, Nevada 88431; email jwinfrey@fs.fed.us. Persons who use a telecommunications device for the deaf (TDD) may call the Federal Information Relay Service (FIRS) at 1-(800) 877-8339 to contact the above individual during normal business hours. The FIRS is available 24 hours a day, 7 days a week, to leave a message or question with the above individual. You will receive a reply during normal business hours.

In all correspondence, please include your name, address, and organization name if you are commenting as a representative of an organization.

SUPPLEMENTARY INFORMATION: In March of 2010 the U.S. Fish and Wildlife Service (FWS) published a “warranted, but precluded” Endangered Species Act (ESA) listing petition decision for the Greater Sage grouse Bi-State Distinct Population Segment (BS DPS). Inadequacy of regulatory mechanisms was identified as a significant factor in the FWS finding on the petition to list the BS DPS. The FWS concluded that existing regulatory mechanism to protect sage grouse in the Bi-State area “* * * afford sufficient discretion to the decision makers as to render them inadequate to ameliorate the threats to the Bi-State DPS”. The major threat in regards to actions authorized on National Forest System and Public Lands is habitat modification (Factor A). Habitat modification on Federal lands includes threats from infrastructure (fences, power lines, and roads), recreation, mining, energy development, grazing, fire, invasive species, noxious weeds, pinyon-juniper encroachment, and climate change.

Purpose and Need for Action

The purpose of the project is to conserve, enhance and/or restore sagebrush and associated habitats to provide for the long-term viability of the BS DPS.

The need for action is to address the recent “warranted, but precluded” ESA decision from the FWS by addressing needed changes in the management and conservation of BS DPS habitats within the Humboldt-Toiyabe National Forest, BLM Carson City District, and BLM Battle Mountain District to support sage grouse population management objectives within the States of Nevada and California.

Proposed Action

The FS is proposing to amend the Toiyabe National Forest Land and Resource Management Plan (TNF LRMP) and the BLM is proposing to amend the Tonopah RMP and the Carson City Field Office Consolidated RMP by adding to or changing some of the regulatory mechanisms that would reduce, eliminate, or minimize threats to the BS DPS habitat on Federal lands administered by the FS and the BLM under those plans. A planning area map is provided in the scoping document (see Scoping Process).

The purpose of the public scoping process is to determine relevant issues relating to the conservation of the BS DPS and its habitat that will influence the scope of the environmental analysis, including alternatives, and guide the process for developing the EIS. Based on issues identified in the FWS decision on the petition listing for the BS DPS, the proposed regulatory mechanisms would address the following resource areas and resource uses on lands administered by the FS and the BLM:

• Recreation Management

• Fire and Fuels Management

• Rangeland Management

• Wild Free Roaming Horses and Burros Management

• Rights of Way Management

• Specials Uses

• Transportation System and Facilities Management

• Minerals Management

○ Locatable

○ Fluid

○ Saleable

• Habitat Restoration/Vegetation Management; and

• Renewable Energy Development

The proposed regulatory mechanisms for these resource areas and resource uses are identified in the scoping package (see Scoping Process) and are listed and organized as in the current TNF LRMP with the exception of Habitat Restoration/Vegetation Management and Renewable Energy Developments which would be new resource areas.

The LRMP and RMP amendments will recognize valid existing rights. Lands addressed in the LRMP and RMP amendments will be National Forest System lands and Public Lands (including surface-estate split estate lands) managed by the FS and BLM, respectively, in habitats of the BS DPS. Any decisions in the LRMP and RMP amendments will apply only to Federal lands administered by either the FS or the BLM. The LRMP and RMP amendments will be limited to making land use planning decisions specific to the conservation of habitats of the BS DPS.

As allowed at 36 CFR 219.17(b)(2), “* * * with respect to plans approved or revised under a prior planning regulation, including the transition provisions of the reinstated 2000 rule (36 CFR part 219, published at 36 CFR parts 200 to 299, revised as of July 1, 2010), plan amendments may be initiated under the provisions of the prior planning regulation for 3 years after May 9, 2012, and may be completed and approved under those provisions * * *.”

As allowed at 36 CFR 219.17(b)(2), the responsible official has opted to initiate and complete this proposed plan amendment consistent with transition provisions of the reinstated 2000 rule. Determination as to whether the amendment is significant or not significant will be based on Forest Service direction at the time of the decision. Based on current direction found in Forest Service Manual 1926.52, the amendment is expected to be not significant.

Possible Alternatives

Under the No Action Alternative the TNF LRMP and BLM RMPs would not be amended to incorporate new or change existing regulatory mechanisms. There are no other alternatives to the proposed action identified at this time.

Lead and Cooperating Agencies

The FS is the lead agency and the BLM is a cooperating agency. The Forest has also invited the Walker River Paiute and Yerington Paiute Tribes and the Bridgeport Indian Colony, Nevada BLM, the U.S. Fish and Wildlife Service, Nevada Department of Wildlife, and Mono, Lyon, Douglas, Alpine, Esmeralda, and Mineral Counties to be cooperating Agencies. Federal, State, and local agencies, along with other stakeholders that may be interested or affected by the FS's or BLM's decision on this proposal are invited to participate in the scoping process and, if eligible, may request or be requested by the FS to participate as a cooperating agency.

Responsible Official

For the FS the responsible official is the Forest Supervisor, Humboldt-Toiyabe National Forest 1200 Franklin Way, Spark Nevada 89431.

For the Department of Interior, BLM the responsible officials are: The District Manager, Carson City District, 5665 Morgan Mill Road, Carson City, NV 8970, and the District Manager, Battle Mountain District, 50 Bastian Road, Battle Mountain, NV 89820.

Nature of Decision To Be Made

Based on the analysis conducted and represented in the EIS and project record the FS responsible official will decide whether to amend the TNF LRMP as described in the proposed action, as in one of the alternatives to the proposed action, or by combining elements of the proposed action and alternatives to create a decision that best meets the purpose of conserving, enhancing and/or restoring sagebrush and associated habitats to provide for the long-term viability of the BS DPS and the need to improve the FS regulatory mechanisms. The FS decision does not include a decision about the BLM RMPs. The BLM will make its own decisions based on the EIS.

Scoping Process

Scoping begins upon publication of this notice in the Federal Register and ends January 30, 2013. The scoping document is posted on the Humboldt-Toiyabe National Forest public Web site at http://www.fs.usda.gov/projects/htnf/landmanagement/projects. During the scoping period the Forest will solicit comments from interested parties and the public. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the FS with the ability to provide the respondent with subsequent environmental documents. This proposal has been listed on the Humboldt-Toiyabe National Forest Schedule of Proposed Actions since November 2012.

Early Notice of Importance of Public Participation in Subsequent Environmental Review

As required under 36 CFR 219.17(b)(2), this proposed plan amendment is subject to the pre-decisional administrative review process (“objection procedure”) set forth in 36 CFR 219 Subpart B. Only those individuals and entities who have submitted substantive formal comments related to the proposed plan amendment during opportunities for public comment may file an objection. Objections must be based on previously submitted substantive formal comments attributed to the objector, unless the objection concerns an issue that arises after the opportunities for formal comment (36 CFR 219.53). Comments are considered substantive when they are within the scope of the proposal, are specific to the proposal, have a direct relationship to the proposal, and include supporting reasons for the responsible official to consider (36 CFR 219.62). Formal comments received from an authorized representative(s) of an entity are considered those of the entity only. A member of an individual must submit substantive formal comments independently to be eligible to file an objection in an individual capacity (36 CFR 219.53(b)).

Substantive formal comments must be written comments submitted to, or oral comments recorded by, the reponsible official or his designee during an opportunity for public participation and attributed to the individual or entity providing them (36 CFR 219.62). For this proposal, the opportunities for public participation are the 45 day scoping comment period announced by this Notice of Intent and the 90 day comment period that begins when the Environmental Protection Agency publishes the Notice of Availability of the draft EIS in the Federal Register.

Dated: November 20, 2012.
William A. Dunkelberger,
Forest Supervisor, Humboldt-Toiyabe National Forest.

[FR Doc. 2012-28936 Filed 11-29-12; 8:45 am]

BILLING CODE 3410-11-P